DEPARTMENT OF COMMERCE

Foreign-Trade Zones Board

[B-70-2015]

Foreign-Trade Zone (FTZ) 39—Dallas/Fort Worth, Texas, Authorization of Production Activity, KONE Inc., (Elevator Parts), Allen, Texas

On October 29, 2015, KONE Inc. submitted a notification of proposed production activity to the Foreign-Trade Zones (FTZ) Board for its facility within FTZ 39—Site 21, in Allen, Texas.

The notification was processed in accordance with the regulations of the FTZ Board (15 CFR part 400), including notice in the Federal Register inviting public comment (80 FR 68836, November 6, 2015). The FTZ Board has determined that no further review of the activity is warranted at this time. The production activity described in the notification is authorized, subject to the FTZ Act and the Board's regulations, including Section 400.14.

Dated: February 20, 2016.
Andrew McGilvray,
Executive Secretary.

[FR Doc. 2016-04714 Filed 3-2-16; 8:45 am]

BILLING CODE 3510-DS-P